DEPARTMENT OF ENERGY

Federal Energy Regulatory Commission

[Docket No. RP02-423-001]

Dauphin Island Gathering Partners; Notice of Tariff Filing

August 12, 2002.

Take notice that on August 2, 2002, Dauphin Island Gathering Partners (Dauphin Island) tendered for filing as part of its FERC Gas Tariff, First Revised Volume No. 1, Substitute First Revised Sheet No. 160, with an effective date of October 1 2002.

Dauphin Island states that this filing is submitted to replace First Revised First Revised Sheet No. 160 which was submitted on August 1, 2002 in error.

Dauphin Island states that copies of the filing are being served contemporaneously on Dauphin Island's firm and interruptible customers and on all persons who are required by the Commission's regulations to be served with the application initiating these proceedings.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20840 Filed 8-15-02; 8:45 am]

BILLING CODE 6717-01-P